DEPARTMENT OF COMMERCE

National Oceanic and Atmospheric Administration

RIN 0648-XE765

New England Fishery Management Council; Public Meeting; Correction

AGENCY: National Marine Fisheries Service (NMFS), National Oceanic and Atmospheric Administration (NOAA), Commerce.

ACTION: Correction of a public meeting notice.

SUMMARY: The New England Fishery Management Council (Council) is scheduling a public meeting of its Herring Advisory Panel on Tuesday, August 16, 2016 to consider actions affecting New England fisheries in the exclusive economic zone (EEZ). Recommendations from this group will be brought to the full Council for formal consideration and action, if appropriate.

DATES: This meeting will be held on Tuesday, August 16, 2016 at 9:30 a.m.

ADDRESSES: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published in the Federal Register on July 29, 2016 (81 FR 49958). The original notice stated that it was a Herring Committee meeting. It should have read that is was a Herring Advisory Panel meeting.

Agenda

The Advisory Panel will give a brief update on the next steps for Management Strategy Evaluation of Atlantic Herring Acceptable Biological Catch control rules being considered in Amendment 8 to the Atlantic Herring Fishery Management Plan (FMP). The Advisory Panel will also review preliminary PDT analysis and develop measures related to localized depletion to be considered in Amendment 8 to the Atlantic Herring FMP. The Advisory Panel will review progress and provide input on Framework Adjustment 5 to the Atlantic Herring FMP, an action considering modification of accountability measures (AMs) that trigger if the sub-ACL of Georges Bank haddock is exceeded by the midwater trawl herring fishery. Additionally, they will start initial discussions of work priorities for the Herring FMP in 2017. Other business may be discussed as necessary.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 2, 2016.
Tracey L. Thompson,
Acting Deputy Director, Office of Sustainable Fisheries, National Marine Fisheries Service.

[FR Doc. 2016-18612 Filed 8-4-16; 8:45 am]

BILLING CODE 3510-22-P